DEPARTMENT OF ENERGY

Federal Energy Regulatory Commission

Combined Notice of Filings

Take notice that the Commission has received the following Natural Gas Pipeline Rate and Refund Report filings:

Filings Instituting Proceedings

Docket Number: PR19-44-000.

Applicants: Enable Oklahoma Intrastate Transmission, LLC.

Description: Tariff filing per 284.123(b),(e)+(g): Enable Revised Fuel Percentages April 1, 2019 through March 31, 2020 to be effective 4/1/2019.

Filed Date: 2/28/19.

Accession Number: 201902285128.

Comments Due: 5 p.m. ET 3/21/19.

284.123(g) Protests Due: 5 p.m. ET 4/29/19.

Docket Number: PR19-45-000.

Applicants: EnLink LIG, LLC.

Description: Tariff filing per 284.123(b)(2)+(g): Petition for Rate Approval and Amended Statement of Operating Conditions to be effective 3/1/2019.

Filed Date: 3/1/19.

Accession Number: 201903015283.

Comments Due: 5 p.m. ET 3/22/19.

284.123(g) Protests Due: 5 p.m. ET 4/30/19.

Docket Numbers: RP18-1126-002.

Applicants: Transcontinental Gas Pipe Line Company, LLC.

Description: Compliance filing Compliance Filing to Update Suspended Tariff Records in Docket No. RP18-1126 to be effective 3/1/2019.

Filed Date: 2/28/19.

Accession Number: 20190228-5276.

Comments Due: 5 p.m. ET 3/12/19.

Docket Numbers: RP19-700-001.

Applicants: Natural Gas Pipeline Company of America.

Description: Tariff Amendment: Corrected Negotiated Rate Agreement Filing-Macquarie Energy LLC to be effective 4/1/2019.

Filed Date: 2/28/19.

Accession Number: 20190228-5203.

Comments Due: 5 p.m. ET 3/12/19.

Docket Numbers: RP19-746-001.

Applicants: Columbia Gas Transmission, LLC.

Description: Tariff Amendment: TCO Neg Rate and NC Agreement Clean-Up (Part 2) to be effective 4/1/2019.

Filed Date: 2/28/19.

Accession Number: 20190228-5250.

Comments Due: 5 p.m. ET 3/12/19.

Docket Numbers: RP19-757-000.

Applicants: Panhandle Eastern Pipe Line Company, LP.

Description: § 4(d) Rate Filing: Fuel Filing on 3-1-19 to be effective 4/1/2019.

Filed Date: 3/1/19.

Accession Number: 20190301-5006.

Comments Due: 5 p.m. ET 3/13/19.

Docket Numbers: RP19-758-000.

Applicants: Trunkline Gas Company, LLC.

Description: § 4(d) Rate Filing: Fuel Filing on 3-1-19 to be effective 4/1/2019.

Filed Date: 3/1/19.

Accession Number: 20190301-5007.

Comments Due: 5 p.m. ET 3/13/19.

Docket Numbers: RP19-759-000.

Applicants: Southwest Gas Storage Company.

Description: § 4(d) Rate Filing: Fuel Filing on 3-1-19 to be effective 4/1/2019.

Filed Date: 3/1/19.

Accession Number: 20190301-5008.

Comments Due: 5 p.m. ET 3/13/19.

Docket Numbers: RP19-760-000.

Applicants: Florida Gas Transmission Company, LLC.

Description: § 4(d) Rate Filing: Fuel Filing on 3-1-19 to be effective 4/1/2019.

Filed Date: 3/1/19.

Accession Number: 20190301-5009.

Comments Due: 5 p.m. ET 3/13/19.

Docket Numbers: RP19-761-000.

Applicants: Rover Pipeline LLC.

Description: § 4(d) Rate Filing: Fuel Filing on 3-1-19 to be effective 4/1/2019.

Filed Date: 3/1/19.

Accession Number: 20190301-5010.

Comments Due: 5 p.m. ET 3/13/19.

Docket Numbers: RP19-762-000.

Applicants: Columbia Gas Transmission, LLC.

Description: § 4(d) Rate Filing: EPCA 2019 to be effective 4/1/2019.

Filed Date: 3/1/19.

Accession Number: 20190301-5011.

Comments Due: 5 p.m. ET 3/13/19.

Docket Numbers: RP19-763-000.

Applicants: Columbia Gas Transmission, LLC.

Description: § 4(d) Rate Filing: TCRA 2019 to be effective 4/1/2019.

Filed Date: 3/1/19.

Accession Number: 20190301-5012.

Comments Due: 5 p.m. ET 3/13/19.

Docket Numbers: RP19-764-000.

Applicants: Columbia Gas Transmission, LLC.

Description: § 4(d) Rate Filing: RAM 2019 to be effective 4/1/2019.

Filed Date: 3/1/19.

Accession Number: 20190301-5013.

Comments Due: 5 p.m. ET 3/13/19.

Docket Numbers: RP19-765-000.

Applicants: MarkWest Pioneer, L.L.C.

Description: § 4(d) Rate Filing: Quarterly Fuel Adjustment Filing to be effective 4/1/2019.

Filed Date: 3/1/19.

Accession Number: 20190301-5014.

Comments Due: 5 p.m. ET 3/13/19.

Docket Numbers: RP19-766-000.

Applicants: ANR Pipeline Company.

Description: § 4(d) Rate Filing: ANR WISE NC and NR Agmts to be effective 4/1/2019.

Filed Date: 3/1/19.

Accession Number: 20190301-5015.

Comments Due: 5 p.m. ET 3/13/19.

Docket Numbers: RP19-767-000.

Applicants: WBI Energy Transmission, Inc.

Description: § 4(d) Rate Filing: 2019 Annual Fuel & Electric Power Reimbursement Adjustment to be effective 4/1/2019.

Filed Date: 3/1/19.

Accession Number: 20190301-5016.

Comments Due: 5 p.m. ET 3/13/19.

Docket Numbers: RP19-768-000.

Applicants: Texas Gas Transmission, LLC.

Description: § 4(d) Rate Filing: Cap Rel Neg Rate Agmt (EM Energy OH 35451 to COMA 37838) to be effective 3/1/2019.

Filed Date: 3/1/19.

Accession Number: 20190301-5017.

Comments Due: 5 p.m. ET 3/13/19.

Docket Numbers: RP19-769-000.

Applicants: ANR Pipeline Company.

Description: § 4(d) Rate Filing: ANR WPS Non-Conforming Agmt to be effective 4/1/2019.

Filed Date: 3/1/19.

Accession Number: 20190301-5018.

Comments Due: 5 p.m. ET 3/13/19.

Docket Numbers: RP19-770-000.

Applicants: Equitrans, L.P.

Description: § 4(d) Rate Filing: Negotiated Capacity Release Agreements—3/1/2019 to be effective 3/1/2019.

Filed Date: 3/1/19.

Accession Number: 20190301-5019.

Comments Due: 5 p.m. ET 3/13/19.

Docket Numbers: RP19-771-000.

Applicants: Dauphin Island Gathering Partners.

Description: § 4(d) Rate Filing: Storm Surcharge 2019 to be effective 4/1/2019.

Filed Date: 3/1/19.

Accession Number: 20190301-5021.

Comments Due: 5 p.m. ET 3/13/19.

Docket Numbers: RP19-772-000.

Applicants: Crossroads Pipeline Company.

Description: § 4(d) Rate Filing: TRA 2019 to be effective 4/1/2019.

Filed Date: 3/1/19.

Accession Number: 20190301-5023.

Comments Due: 5 p.m. ET 3/13/19.

Docket Numbers: RP19-773-000.

Applicants: Southern Star Central Gas Pipeline, Inc.

Description: § 4(d) Rate Filing: Fuel Filing—Eff. April 1, 2019 to be effective 4/1/2019.

Filed Date: 3/1/19.

Accession Number: 20190301-5024.

Comments Due: 5 p.m. ET 3/13/19.

Docket Numbers: RP19-774-000.

Applicants: WBI Energy Transmission, Inc.

Description: § 4(d) Rate Filing: 2019 Negotiated Service Agreement—ONEOK to be effective 4/1/2019.

Filed Date: 3/1/19.

Accession Number: 20190301-5025.

Comments Due: 5 p.m. ET 3/13/19.

Docket Numbers: RP19-775-000.

Applicants: KPC Pipeline, LLC.

Description: § 4(d) Rate Filing: Fuel Reimbursement Adjustment to be effective 4/1/2019.

Filed Date: 3/1/19.

Accession Number: 20190301-5026.

Comments Due: 5 p.m. ET 3/13/19.

Docket Numbers: RP19-776-000.

Applicants: Guardian Pipeline, L.L.C.

Description: § 4(d) Rate Filing: EPCR Semi-Annual Adjustment—Spring 2019 to be effective 4/1/2019.

Filed Date: 3/1/19.

Accession Number: 20190301-5067.

Comments Due: 5 p.m. ET 3/13/19.

Docket Numbers: RP19-777-000.

Applicants: Kern River Gas Transmission Company.

Description: § 4(d) Rate Filing: 2019 Daggett Surcharge to be effective4/1/2019.

Filed Date: 3/1/19.

Accession Number: 20190301-5090.

Comments Due: 5 p.m. ET 3/13/19.

Docket Numbers: RP19-778-000.

Applicants: Central Kentucky Transmission Company.

Description: § 4(d) Rate Filing: RAM 2019 to be effective 4/1/2019.

Filed Date: 3/1/19.

Accession Number: 20190301-5096.

Comments Due: 5 p.m. ET 3/13/19.

Docket Numbers: RP19-779-000.

Applicants: Tennessee Gas Pipeline Company, L.L.C.

Description: § 4(d) Rate Filing: Volume No. 2—Freepoint Commodities SP345229 & SP 345231 to be effective4/1/2019.

Filed Date: 3/1/19.

Accession Number: 20190301-5106.

Comments Due: 5 p.m. ET 3/13/19.

Docket Numbers: RP19-780-000.

Applicants: Midwestern Gas Transmission Company.

Description: § 4(d) Rate Filing: Annual Fuel Retention Percentage Adjustment—2019 Rate to be effective 4/1/2019.

Filed Date: 3/1/19.

Accession Number: 20190301-5125.

Comments Due: 5 p.m. ET 3/13/19.

Docket Numbers: RP19-781-000.

Applicants: Cimarron River Pipeline, LLC.

Description: § 4(d) Rate Filing: Fuel Tracker 2019—Summer Season Rates to be effective 4/1/2019.

Filed Date: 3/1/19.

Accession Number: 20190301-5120.

Comments Due: 5 p.m. ET 3/13/19.

Docket Numbers: RP19-782-000.

Applicants: Viking Gas Transmission Company.

Description: § 4(d) Rate Filing: Annual LMCRA—Spring 2019 to be effective4/1/2019.

Filed Date: 3/1/19.

Accession Number: 20190301-5124.

Comments Due: 5 p.m. ET 3/13/19.

Docket Numbers: RP19-783-000.

Applicants: Cheniere Corpus Christi Pipeline L.P.

Description: Transportation Retainage Adjustment Informational Filing of Cheniere Corpus Christi Pipeline, L.P. under RP19-783.

Filed Date: 2/28/19.

Accession Number: 20190228-5334.

Comments Due: 5 p.m. ET 3/12/19.

Docket Numbers: RP19-784-000.

Applicants: Arlington Storage Company, LLC.

Description: § 4(d) Rate Filing: Arlington Storage Company, LLC—Filing of Tariff Modifications to be effective 4/1/2019.

Filed Date: 3/1/19.

Accession Number: 20190301-5126.

Comments Due: 5 p.m. ET 3/13/19.

Docket Numbers: RP19-785-000.

Applicants: Viking Gas Transmission Company.

Description: § 4(d) Rate Filing: Semi-Annual Fuel and Losses Retention Adjustment—Summer 2019 Rate to be effective 4/1/2019.

Filed Date: 3/1/19.

Accession Number: 20190301-5132.

Comments Due: 5 p.m. ET 3/13/19.

Docket Numbers: RP19-786-000.

Applicants: Rockies Express Pipeline LLC.

Description: Annual Fuel and Lost & Unaccounted Reimbursement Percentages and Power Cost Charges of Rockies Express Pipeline LLC.

Filed Date: 2/28/19.

Accession Number: 20190228-5343.

Comments Due: 5 p.m. ET 3/12/19.

Docket Numbers: RP19-787-000.

Applicants: Columbia Gulf Transmission, LLC.

Description: § 4(d) Rate Filing: TRA 2019 to be effective 4/1/2019.

Filed Date: 3/1/19.

Accession Number: 20190301-5181.

Comments Due: 5 p.m. ET 3/13/19.

Docket Numbers: RP19-788-000.

Applicants: KO Transmission Company.

Description: § 4(d) Rate Filing: 2019 Transportation Retainage Adjustment Filing to be effective 4/1/2019.

Filed Date: 3/1/19.

Accession Number: 20190301-5199.

Comments Due: 5 p.m. ET 3/13/19.

Docket Numbers: RP19-789-000.

Applicants: Algonquin Gas Transmission, LLC.

Description: § 4(d) Rate Filing: Negotiated Rate—Yankee to Direct Energy 798806 eff 3-2-2019 to be effective 3/2/2019.

Filed Date: 3/1/19.

Accession Number: 20190301-5207.

Comments Due: 5 p.m. ET 3/13/19.

Docket Numbers: RP19-790-000.

Applicants: UGI Storage Company.

Description: § 4(d) Rate Filing: Modify Storage Withdrawal Ratchet Levels to be effective 4/1/2019.

Filed Date: 3/1/19.

Accession Number: 20190301-5231.

Comments Due: 5 p.m. ET 3/13/19.

Docket Numbers: RP19-791-000.

Applicants: Gulf Crossing Pipeline Company LLC.

Description: § 4(d) Rate Filing: Amendment to Neg Rate Agmt (Total 167-3) to be effective 3/1/2019.

Filed Date: 3/1/19.

Accession Number: 20190301-5244.

Comments Due: 5 p.m. ET 3/13/19.

Docket Numbers: RP19-792-000.

Applicants: Empire Pipeline, Inc.

Description: § 4(d) Rate Filing: GT&C 12.6 and Housekeeping Changes to be effective 4/1/2019.

Filed Date: 3/1/19.

Accession Number: 20190301-5264.

Comments Due: 5 p.m. ET 3/13/19.

Docket Numbers: RP19-793-000.

Applicants: Enable Gas Transmission, LLC.

Description: § 4(d) Rate Filing: Negotiated Rate Filing—March 2019—Continental 1011192 to be effective3/1/2019.

Filed Date: 3/1/19.

Accession Number: 20190301-5265.

Comments Due: 5 p.m. ET 3/13/19.

Docket Numbers: RP19-794-000.

Applicants: Transwestern Pipeline Company, LLC.

Description: § 4(d) Rate Filing: Housekeeping Filing on 3-1-19 to be effective 4/1/2019.

Filed Date: 3/1/19.

Accession Number: 20190301-5292.

Comments Due: 5 p.m. ET 3/13/19.

Docket Numbers: RP19-795-000.

Applicants: Transwestern Pipeline Company, LLC.

Description: § 4(d) Rate Filing: Housekeeping Filing—Orig. Vol. 1-A filed 3-1-19 to be effective 4/1/2019.

Filed Date: 3/1/19.

Accession Number: 20190301-5295.

Comments Due: 5 p.m. ET 3/13/19.

Docket Numbers: RP19-796-000.

Applicants: Transcontinental Gas Pipe Line Company, LLC.

Description: § 4(d) Rate Filing: Non-Conforming—Atlantic Sunrise—Pacific Summit Energy to be effective 3/1/2019.

Filed Date: 3/1/19.

Accession Number: 20190301-5300.

Comments Due: 5 p.m. ET 3/13/19.

Docket Numbers: RP19-797-000.

Applicants: North Baja Pipeline, LLC.

Description: § 4(d) Rate Filing: Sempra Negotiated Rate Agreement to be effective 3/1/2019.

Filed Date: 3/1/19.

Accession Number: 20190301-5308.

Comments Due: 5 p.m. ET 3/13/19.

Docket Numbers: RP19-798-000.

Applicants: Transcontinental Gas Pipe Line Company, LLC.

Description: § 4(d) Rate Filing: Transco 2019 Annual Fuel Tracker to be effective 4/1/2019.

Filed Date: 3/1/19.

Accession Number: 20190301-5313.

Comments Due: 5 p.m. ET 3/13/19.

Docket Numbers: RP19-799-000.

Applicants: El Paso Natural Gas Company, L.L.C.

Description: § 4(d) Rate Filing: Negotiated Rate Agreement Update (Conoco Mar 2019) to be effective3/1/2019.

Filed Date: 3/1/19.

Accession Number: 20190301-5328.

Comments Due: 5 p.m. ET 3/13/19.

Docket Numbers: RP19-800-000.

Applicants: Transcontinental Gas Pipe Line Company, LLC.

Description: § 4(d) Rate Filing: Annual Electric Power Tracker Filing Effective April 1, 2019 to be effective 4/1/2019.

Filed Date: 3/1/19.

Accession Number: 20190301-5352.

Comments Due: 5 p.m. ET 3/13/19.

Docket Numbers: RP19-801-000.

Applicants: Tennessee Gas Pipeline Company, L.L.C.

Description: § 4(d) Rate Filing: Fuel Tracker—2019 to be effective 4/1/2019.

Filed Date: 3/1/19.

Accession Number: 20190301-5353.

Comments Due: 5 p.m. ET 3/13/19.

Docket Numbers: RP19-802-000.

Applicants: UGI Mt. Bethel Pipeline Company, LLC.

Description: Annual Retainage Adjustment Filing of UGI Mt. Bethel Pipeline Company, LLC under RP19-802.

Filed Date: 3/1/19.

Accession Number: 20190301-5362.

Comments Due: 5 p.m. ET 3/13/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 5, 2019.
Kimberly D. Bose,
Secretary.

[FR Doc. 2019-04330 Filed 3-8-19; 8:45 am]

BILLING CODE 6717-01-P